DEPARTMENT OF COMMERCE

Economic Development Administration

Notice of Petitions by Producing Firms for Determination of Eligibility To Apply for Trade Adjustment Assistance

AGENCY: Economic Development Administration (EDA), Commerce.

ACTION: To give firms an opportunity to comment.

Petitions have been accepted for filing on the dates indicated from the firms listed below.

List of Petition Action by Trade Adjustment Assistance for Period 03/16/01-04/17/01
Firm name | Address | Date petition accepted | Product
Hamakua Macadamia Nut Company & Affiliates | P.O. Box 44715, Kawaihae, HI 96743 | 03/20/01 | Macadamia nuts.
Athens Furniture Industries, Inc. | 1241 Frye Street, Athens, TN 37371 | 03/20/01 | Solid wood bedroom furniture.
Wiley Cork Company, Inc | 14th & Church Street, Wilmington, DE 19899 | 03/21/01 | Cork products used in expansion joint filler and bulletin boards.
Moot Wood Turnings, Inc | 98 Mill Street, Northfield Falls, VT 05664 | 03/21/01 | Souvenir wood baseball bats, drumsticks, furniture components, etc.
Legends and Lore, Inc | 1501 Pine Hts. Drive, Rapid City, SD 57701 | 03/27/01 | Children's hand puppets.
Stallion Boot Company, Inc | 100 North Cotton Street, El Paso, TX 79901 | 03/27/01 | Leather boots, belts and accessories, i.e. wallets, purses and boot bags.
KRB Klearkast, Inc | 301 Kings Mill Road, York, PA 17403 | 03/27/01 | Acrylic business gifts and awards made from large rods, tubes and blocks.
Corlair Corporation | 100 Ashley Park Drive, Piedmont, MO 63957 | 03/27/01 | Leather day planners and automotive portfolios.
Oak Mountain, Inc | 602 Foster Avenue, Pyatt, AR 72672 | 03/27/01 | Pine porch posts, bed posts and table bases.
Precision Custom Coatings, L.L.C | 200 Maltese Drive, Totowa, NJ 07512 | 03/27/01 | Non-woven and fusible knot inter-linings for the textile industry.
Meta-Lite, Inc | 93 Entin Road, Clifton, NJ 07011 | 03/28/01 | Metal fabricator for all types of metal work, i.e. toll booths for highways, gates, railings and token booth cabinets for subway systems.
S & L Plastics, Inc | 2860 Bath Pike, Nazareth, PA 18064 | 03/28/01 | Injection moldings and extrusion of plastics for various industries.
Schatz Bearing Corporation | 10 Fairview Avenue, Poughkeepsie, NY 12602 | 03/29/01 | Ball bearings.
Morton Machine Works, Inc | 300 Jackson Avenue, Columbus, GA 31901 | 04/03/01 | Pressure valves for various industries.
Dedoes Industries, Inc | 1060 W. Maple Road, Walled Lake, MI 48390 | 04/03/01 | Paint mixing machines and lids.
Stoesser Industries | 440 Leghorn Street, Mountain View, CA 94043 | 04/03/01 | Injection molds and molding of plastic parts.
Burton Medical Products Corporation | 21100 Lassen Street, Chatsworth, CA 91311 | 04/03/01 | Mounted surgical operating room lighting apparatus, instruments, diagnostic magnifiers, lights and viewers.
Entertron Industries, Inc | 3857 Orangeport Road, Gasport, NY 14067 | 04/06/01 | Microprocessor systems for electronic control of sequential operations in programmable logic controllers.
Delaware Diamond Knives, Inc | 3825 Lancaster Pike, Wilmington, DE 19805 | 04/06/01 | Diamond knives for use in medical research and manufacturing operations.
Techtrol, Inc | 1310 North Sewell, Pawnee, OK 74058 | 04/06/01 | Printed circuit boards.
Montola Growers, Inc | Highway 2 East, Culbertson, MT 59218 | 04/06/01 | Safflower oil.
Lambert Manufacturing Company dba The Lambert Company | 105 Elm Street, Chillicothe, MO 64601 | 04/09/01 | Mens and boys cotton gloves, leather gloves and headgear.
Future Products, Inc | 2100 Minnesota Avenue | 04/10/01 | Adult outerwear in a variety of woven blends.
Pyramid Mountain Lumber, Inc | 379 Boyscout Road, Seeley Lake, MY 59868 | 04/17/01 | Douglas fir and larch lumber.
Forest Medical, L.L.C | 6700 Old Collamer Road, E. Syracuse, NY 13057 | 04/17/01 | Digital ambulatory electrocardiographs.

The petitions were submitted pursuant to section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm.

Any party having a substantial interest in the proceedings may request a public hearing on the matter. A request for a hearing must be received by Trade Adjustment Assistance, Room 7315, Economic Development Administration, U.S. Department of Commerce, Washington, DC 20230, no later than the close of business of the tenth calendar day following the publication of this notice.

The Catalog of Federal Domestic Assistance official program number and title of the program under which these petitions are submitted is 11.313, Trade Adjustment Assistance.

Dated: April 19, 2001.
Anthony J. Meyer,
Coordinator, Trade Adjustment and Technical Assistance.

[FR Doc. 01-10375 Filed 4-25-01; 8:45 am]

BILLING CODE 3510-24-P